DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by January 22, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Rural eConnectivity (ReConnect) Program.

OMB Control Number: 0572-0152.

Summary of Collection: On March 23, 2018, Congress passed the Consolidated Appropriations Act 2018 (the Fiscal Year 2018 Appropriations (Pub. L.115-141)) which established the broadband loan and grant Reconnect program, the Rural eConnectivity (ReConnect) Program. One of the essential goals of the ReConnect Program is to expand broadband service to rural areas without sufficient access to broadband, defined as 100 megabits per second (Mbps) downstream and 20 Mbps upstream. For this purpose, Congress provided the Rural Utilities Service (RUS) with $600 million and expanded its existing authority to make loans and grants. Loans and grants are limited to the costs of the construction, improvement, and acquisition of facilities and equipment for broadband service in eligible communities. The Fiscal Year 2018 Appropriations also authorized technical assistance to assist the agency in expanding needed service to the most rural communities. For fiscal year (FY) 2019, Congress funded an additional $550 million for the pilot. For FY 2022, the ReConnect program received $800 million. There was a second application round in FY 22 and the budget was further expanded to $1.15 billion.

In facilitating the expansion of broadband services and infrastructure, the program will fuel long-term rural economic development and opportunities in rural America. One of those opportunities is precision agriculture (PA). PA is a new concept adopted in rural America used to increase production, reduce labor time, and ensure the effective management of fertilizers and irrigation processes. PA is the science of improving crop yields and assisting management decisions using high technology sensor and analysis tools. The use of this technology requires a robust broadband connection. The awards made under this program will bring high speed broadband to farms which will ultimately increase productivity.

Need and Use of the Information: Pursuant to the Reconnect Program authorization in the Consolidated Appropriations Act, 2018 (Pub. L. 115-141, 779 (2018)), RUS is to conduct a Reconnect broadband program under the RE Act. On February 21, 2021, the ReConnect Regulation, 7 CFR 1740, was established. 7 CFR 1740.49 of the regulation states that applicants are required to submit an application for loans and loan guarantees containing the information that RUS shall require, and that the project meet the minimum level of broadband in the service area. 7 CFR 1740.80 sets out the reporting requirements.

In the broadband regulations implementing the RE Act broadband statute, 7 CFR 1740.60 contains the elements of the application intake that are required in the Reconnect program. Moreover, pursuant to 7 CFR 1740.44 adequate financial, investment, operational, reporting, and managerial controls are also required in the loan documents. Lastly, all the certifications asked for are required by 7 CFR 1740.46, most of which are already required by federal law.

The Agency is required to analyze the potential environmental impacts, as required by the National Environmental Policy Act (NEPA), for Applicant projects or proposals seeking funding. Applicants are encouraged to refer to 7 CFR part 1970 for all Rural Development's environmental policies. All Applicants must follow the requirements in 7 CFR part 1970 and are required to complete an Environmental Questionnaire, to provide a description of program activities, and to submit all other required environmental documentation as requested in the application system or by the Agency after the application is submitted. It is the Applicant's responsibility to obtain all necessary federal, tribal, state, and local governmental permits and approvals necessary for the proposed work to be conducted.

Description of Respondents: Businesses or other for-profits; Not-for-profit institutions.

Number of Respondents: 480.

Frequency of Responses: Reporting: On Occassion.

Total Burden Hours: 1,468,032.

Levi S. Harrell,
Departmental Information Collection Clearance Officer.

[FR Doc. 2023-27845 Filed 12-18-23; 8:45 am]

BILLING CODE 3410-15-P